DEPARTMENT OF HOMELAND SECURITY

Federal Emergency Management Agency

[Docket ID FEMA-2021-0011]

RIN 1660-AB08

Request for Information on FEMA Programs, Regulations, and Policies; Public Meetings; Extension of Comment Period

AGENCY: Federal Emergency Management Agency, Department of Homeland Security.

ACTION: Announcement of public meetings; extension of comment period.

SUMMARY: The Federal Emergency Management Agency (FEMA) is extending the public comment period for its request for information published April 22, 2021, and will hold two public meetings remotely via web conference to solicit feedback on the request for information. The request for information seeks input from the public on specific FEMA programs, regulations, collections of information, and policies for the agency to consider modifying, streamlining, expanding, or repealing in light of recent Executive orders.

DATES: The comment period for the request for information published at 86 FR 21325 (Apr. 22, 2021) is extended. Written comments may be submitted until 11:59 p.m. Eastern Time (ET) on Wednesday, July 21, 2021.

FEMA will hold meetings on Tuesday, June 15, 2021, from 2 p.m. to 3:30 p.m. ET, and Wednesday, June 16, 2021, from 3:30 p.m. to 5 p.m. ET. The public meeting on June 15 will be for a general audience, and the meeting on June 16 will be focused on issues specific to Indian Tribal governments. Depending on the number of speakers, the meetings may end before the time indicated, following the last call for comments.

ADDRESSES: The public meetings will be held via web conference. Members of the public may register to attend the meetings online at the following links:

For the June 15 meeting: https://attendee.gotowebinar.com/register/8344630664422138128.

For the June 16 Tribal meeting: https://attendee.gotowebinar.com/register/4077004924087852814.

If you would like to speak at a meeting, please indicate that on the registration form. For the June 16 meeting, FEMA will be prioritizing comments from representatives and members of Indian Tribal governments. If there is time remaining in a meeting after all registered speakers have finished, FEMA will invite comments from others in attendance.

Reasonable accommodations are available for people with disabilities. To request a reasonable accommodation, contact the person listed in the FOR FURTHER INFORMATION CONTACT section below as soon as possible. Last minute requests will be accepted but may not be possible to fulfill.

Written comments on the request for information must be submitted via the Federal eRulemaking Portal at https://www.regulations.gov. Search for FEMA-2021-0011-0001 and follow the instructions for submitting comments.

All written comments received, including any personal information provided, may be posted without alteration at https://www.regulations.gov. All comments on the request for information made during the meetings will be posted to the rulemaking docket on https://www.regulations.gov.

For access to the docket and to read comments received by FEMA, go to https://www.regulations.gov and search for Docket ID FEMA-2021-0011.

FOR FURTHER INFORMATION CONTACT: Kristen Shedd, Acting Deputy Chief Counsel, General Law, via email at FEMA-regulations@fema.dhs.gov or via phone at (202) 646-4105.

SUPPLEMENTARY INFORMATION: On April 22, 2021, FEMA published a Request for Information on FEMA Programs, Regulations, and Policies.¹ FEMA is seeking public input on specific FEMA programs, regulations, collections of information, and policies for the agency to consider modifying, streamlining, expanding, or repealing in light of recent Executive orders. These efforts aim to help FEMA ensure that its programs, regulations, and policies contain necessary, properly tailored, and up-to-date requirements that effectively achieve FEMA's mission in a manner that furthers the goals of advancing equity for all, including those in underserved communities; bolstering resilience from the impacts of climate change, particularly for those disproportionately impacted by climate change; and environmental justice.

¹ 86 FR 21325. Commenters may reference the Request for Information for a general description of FEMA's programs.

Specifically, FEMA seeks this input pursuant to the processes required by Executive Orders 13985, 13990, and 14008 that require agencies to assess existing programs and policies to determine if: (1) Agency programs and policies perpetuate systemic barriers to opportunities and benefits for people of color and other underserved groups; (2) additional agency actions are required to bolster resilience to climate change; and (3) agency programs, policies, and activities address the disproportionately high and adverse climate-related impacts on disadvantaged communities. Consistent with Executive Order 13563 and Executive Order 13707, FEMA further seeks this input to ensure that it is implementing its programs in a manner that builds disaster readiness and closes national capability gaps through data-driven approaches and risk-informed preparedness and mitigation investments as well as in delivering the Agency's response and recovery mission sets.

The purpose of the request for information is to seek general feedback on FEMA's programs. Individuals cannot apply for FEMA assistance by submitting a comment in the Federal Register. If you are an individual who has been impacted by a disaster and you are seeking assistance from FEMA, please visit https://www.fema.gov/assistance/individual or call the FEMA Helpline (1-800-621-3362/TTY (800) 462-7585) to apply or receive information on a pending request.

FEMA is holding public meetings and extending the comment period to ensure all interested parties have sufficient opportunity to provide comments on FEMA's programs. FEMA will carefully consider all relevant comments received during the meetings, and during the rest of the comment period. All comments or remarks provided on the request for information during the meeting will be recorded and posted to the rulemaking docket on https://www.regulations.gov.

Meeting Agendas

The agenda for both meetings is as follows:

1. (3 min.) Introduction to Technology

2. (10 min.) Welcome Remarks by FEMA Leadership

3. (75 min.) Public Comment

4. (2 min.) Closing Remarks

Deanne Criswell,
Administrator, Federal Emergency Management Agency.

[FR Doc. 2021-11932 Filed 6-4-21; 8:45 am]

BILLING CODE 9111-19-P